DEPARTMENT OF COMMERCE

International Trade Administration

[C-791-806]

Stainless Steel Plate in Coils From South Africa; Final Results of Expedited Sunset Review

AGENCY: Import Administration, International Trade Administration, Department of Commerce.

ACTION: Notice of final results of the expedited sunset review of the countervailing duty order on stainless steel plate in coils from South Africa.

SUMMARY: On April 1, 2004, the Department of Commerce (“the Department”) initiated a sunset review of the countervailing duty order on stainless steel plate in coils (“SSPC”) from South Africa pursuant to section 751(c) of the Tariff Act of 1930, as amended (“the Act”). On the basis of a notice of intent to participate and an adequate substantive response filed on behalf of domestic interested parties and an inadequate response, i.e., no response from respondent interested parties, the Department determined to conduct an expedited (120-day) sunset review. As a result of this sunset review, the Department finds that revocation of the countervailing duty order would be likely lead continuation or recurrence of a countervailable subsidy. The net countervailable subsidy and the nature of the subsidy are identified in the Final Results of Review section of this notice.

FOR FURTHER INFORMATION CONTACT: Martha V. Douthit, Office of Policy for Import Administration, International Trade Administration, U.S. Department of Commerce, 14th Street & Constitution Avenue, NW., Washington, DC 20230; telephone: (202) 482-5050.

EFFECTIVE DATE: August 5, 2004.

SUPPLEMENTARY INFORMATION:

Background

On April 1, 2004, the Department of Commerce (“the Department”) initiated a sunset review of the countervailing duty order on SSPC from South Africa pursuant to section 751(c) of the Act. See Initiation of Five-Year (Sunset) Reviews, 69 FR 17129 (April 1, 2004). On April 16, 2004, the Department received a Notice of Intent to Participate from Allegheny Ludlum Corporation (“Allegheny Ludlum”), North American Stainless (“NAS”), and the United Steelworkers of America, AFL-CIO-CLC (“USWA”), collectively (“domestic interested parties”) within the applicable deadline specified in section 351.218(d)(1)(i) of the Department's regulations. On May 3, 2004, we received a complete substantive response from domestic interested parties within the 30-day deadline specified in the Department's regulations. However, we did not receive responses from any respondent interested parties to this proceeding as required in section 351.218(d)(3)(i) of the Department's regulations. As a result of receiving no responses from respondent interested parties, the Department conducted an expedited (120-day) sunset review of this order pursuant to section 751(c)(3)(B) of the Act and section 351.218(e)(1)(ii)(C) of the Department's regulations.

Scope of the Order

The merchandise subject to this countervailing duty order is stainless steel plate in coils. Stainless steel is an alloy steel containing, by weight, 1.2 percent or less of carbon and 10.5 percent or more of chromium, with or without other elements. The subject plate products are flat-rolled products, 254 mm or over in width and 4.75 mm or more in thickness, in coils, and annealed or otherwise heat treated and pickled or otherwise descaled. The subject plate may also be further processed (e.g., cold-rolled, polished, etc.) provided that it maintains the specified dimensions of plate following such processing. Excluded from the scope of these orders are the following: (1) Plate not in coils, (2) plate that is not annealed or otherwise heat treated and pickled or otherwise descaled, (3) sheet and strip, and (4) flat bars. The merchandise subject to these orders is currently classifiable in the Harmonized Tariff Schedule of the United States (“HTSUS”) at subheadings: 7219.11.00.30, 7219.11.00.60, 7219.12.00.05, 7219.12.00.20, 7219.12.00.25, 7219.12.00.50, 7219.12.00.55, 7219.12.00.65, 7219.12.00.70, 7219.12.00.80, 7219.31.00.10, 7219.90.00.10, 7219.90.00.20, 7219.90.00.25, 7219.90.00.60, 7219.90.00.80, 7220.11.00.00, 7220.20.10.10, 7220.20.10.15, 7220.20.10.60, 7220.20.10.80, 7220.20.60.05, 7220.20.60.10, 7220.20.60.15, 7220.20.60.60, 7220.20.60.80, 7220.90.00.10, 7220.90.00.15, 7220.90.00.60, and 7220.90.00.80. Although the HTSUS subheadings are provided for convenience and customs purposes, the written description of the scope of the order is dispositive.

Analysis of Comments Received

All issues raised in this case are addressed in the “Issues and Decision Memorandum” (“Decision Memo”) from Ronald K. Lorentzen, Acting Director, Office of Policy, Import Administration, to Joseph A. Spetrini, Acting Assistant Secretary for Import Administration, dated July 30, 2004, which is hereby adopted by this notice. The issues discussed in the Decision Memo include the likelihood of continuation or recurrence of subsidization and the magnitude of the margin likely to prevail if the order were revoked. Parties can find a complete discussion of all issues raised in this review and the corresponding recommendations in this public memorandum, which is on file in room B-099 of the main Commerce Building.

In addition, a complete version of the Decision Memo can be accessed directly on the Web at http://ia.ita.doc.gov/frn, under the heading “August 2004.” The paper copy and electronic version of the Decision Memo are identical in content.

Final Results of Review

We determine that revocation of the countervailing duty order on SSPC from South Africa would likely lead to continuation or recurrence of subsidization at the following weighted-average percentage margins:

Manufacturers/exporters/producers | Net countervailable subsidy margin (percent)
Columbus Stainless Steel Company (the operating unit of Columbus Joint Venture) | 3.95
All Others | 3.95

This notice also serves as the only reminder to parties subject to administrative protective orders (“APO”) of their responsibility concerning the return or destruction of proprietary information disclosed under APO in accordance with 19 CFR 351.305 of the Department's regulations. Timely notification of the return or destruction of APO materials or conversion to judicial protective order is hereby requested. Failure to comply with the regulations and terms of an APO is a violation which is subject to sanction.

We are issuing and publishing the results and notice in accordance with sections 751(c), 752, and 777(i)(1) of the Act.

Dated: July 30, 2004.
Joseph A. Spetrini,
Acting Assistant Secretary for Import Administration.

[FR Doc. 04-17921 Filed 8-4-04; 8:45 am]

BILLING CODE 3510-DS-P